DEPARTMENT OF DEFENSE

Department of the Army; Corps of Engineers

Notice of Intent To Prepare a Draft Environmental Impact Statement on the Construction and Operation of the Everglades Agricultural Area A1 Flow Equalization Basin, Palm Beach County, FL

AGENCY: Department of the Army, U.S. Army Corps of Engineers, DoD.

ACTION: Notice of Intent (NOI).

SUMMARY: The U.S. Army Corps of Engineers (USACE), Jacksonville District, is in the preapplication phase of its evaluation of the anticipated application from the South Florida Water Management District (SFWMD) for a U.S. Department of the Army (DA) permit under Section 404 of the Clean Water Act for construction and operation of a Flow Equalization Basin (FEB) at the location of the Everglades Agricultural Area (EAA) A1 Reservoir project that was not fully constructed. The USACE regulates the discharge of dredged or fill material into Waters of the United States, including jurisdictional ditches and/or wetlands, associated with construction of any proposed action. The USACE anticipates a decision on the proposed activities would constitute a Major Federal Action in accordance with 40 CFR Section 1501.8. Based on the size of the project area, the current purpose for the site, and the potential environmental impacts, both individually and cumulatively, of the anticipated Proposed Action, the USACE intends to prepare an Environmental Impact Statement (EIS) in compliance with the National Environmental Policy Act (NEPA) of 1969 (42 U.S.C. 4321 et seq.) to inform any final decision on the permit application. The USACE's decision will be to either issue, issue with modifications to the applicant's proposal, or deny Department of the Army permits for the Proposed Action.

The Draft EIS is intended to be sufficient in scope to address federal and other requirements and environmental issues concerning the Proposed Action to support the Corps determination whether to issue a Section 404 permit. The U.S. Environmental Protection Agency (U.S. EPA) and the U.S. Department of Interior (U.S. DOI) will be offered the option of being a cooperating agency on the EIS.

DATES: The USACE plans to hold a public scoping meeting September 6, 2012, at 6:30 p.m. Eastern Standard Time (EST).

ADDRESSES: The public scoping meeting will be held at 3301 Gun Club Road, West Palm Beach, Florida 33406.

FOR FURTHER INFORMATION CONTACT: Questions about the Proposed Action and Draft EIS should be directed to Ms. Alisa Zarbo, (561) 472-3516 or by email at Alisa.A.Zarbo@usace.army.mil. Written comments should be addressed to the U.S. Army Corps of Engineers, Attn: Ms. Alisa Zarbo, 4400 PGA Boulevard, Suite 500, Palm Beach Gardens, FL, 33410, or by facsimile at (561) 626-6971.

SUPPLEMENTARY INFORMATION: a. Background/Project Authorization. The USACE is preparing this Draft EIS in accordance with NEPA, Council of on Environmental Quality (CEQ) Regulations (40 CFR part1500 et seq.), and USACE provisions for implementing the procedural requirements of NEPA (33 CFR part 230, USACE Engineering Regulation ER 200-2-2). A primary purpose of a USACE Regulatory Program EIS is to provide a comnprehensive discussion of the significant environmental impacts of a proposal or project that may be the subject of a DA permit. The Draft EIS and Final EIS are used to inform the public and agency decision-makers of alternatives to an applicant's project and opportunities to avoid or minimize adverse impacts or enhance the quality of the human environment. The EIS is not a USACE regulatory decision document. It is used by agency officials in conjunction with other relevant information in a permit application file, including public and agency comments presented in the Final EIS, to inform the final decision on a permit application. In this instance, the SFWMD intends to submit a permit application to construct and operate a FEB on the site previously intended for the EAA A1 Reservoir known as the A1 Site. The purpose of the proposed action is to assist in meeting State of Florida water quality standards by attenuating peak stormwater flows and temporarily storing stormwater runoff from the central EAA which will improve inflow delivery rates to Stormwater Treatment Area (STA) 2 (including Compartment B) and STA 3/4. This project is anticipated to result in increased phosphorus removal performance in these STAs in order to meet State water quality standards.

b. Need or Purpose. The purpose of the proposed action is to attenuate peak stormwater flows into Stormwater Treatment Areas 2 and 3/4 to assist in meeting State water quality standards.

c. Prior EAs, EISs. In 2006, an EIS was completed for the A1 Reservoir site, which is expected to have the same footprint as the A1 FEB site; however, the project purpose and intended use for the A1 FEB is different. This Draft EIS will include the project purpose, evaluation of the FEB and its potential effects, evaluation of alternatives, relevant history and data, an evaluation of downstream effects based on current state of the environment with the FEB, and a jurisdictional determination.

d. Alternatives. An evaluation of alternatives to the proposed FEB project, including a No Action alternative will be performed. The Draft EIS will analyze reasonable alternatives to meet the project purpose and need. Alternatives will be determined through scoping, but are expected to include at a minimum the A1 Reservoir in addition to a “no action” alternative.

e. Issues. The following issues have been identified for analysis in the Draft EIS. This list is preliminary and is intended to facilitate public comment on the scope of the Draft EIS. The Draft EIS will consider the effects on Federally listed threatened and endangered species, health and safety, socioeconomics, aesthetics, general environmental concerns, wetlands (and other aquatic resources), historic properties, cultural resources, fish and wildlife values, land use, transportation, recreation, water supply and conservation, water quality, energy needs, mineral needs, considerations of property ownership, and, in general, the needs and welfare of the people, and other issues identified through scoping, public involvement, and interagency coordination. At the present time, our primary areas of environmental concern are the loss of wetland functions and value, mitigation of such losses, the improvements in the downstream timing and delivery of water, and water quality. We expect to better define the issues of concern and define the methods that will be used to evaluate those issues through the scoping comment period.

f. Scoping Process. CEQ regulations (40 CFR 1501.7) require an early and open process for determining the scope of a Draft EIS and for identifying significant issues related to the proposed action.

The Corps is furnishing this notice to advise other Federal and State agencies, affected federally recognized Tribes, and the public of our intentions. This notice announces the initiation of a 30-day scoping period which requests the public's involvement in the scoping and evaluation process of the Draft EIS. Stakeholders will be notified through advertisements, public notices and other means. All parties who express interest will be given an opportunity to participate in this process. The process allows the Corps to obtain suggestions and information on the scope of issues and an opportunity to provide reasonable alternatives to be included in the Draft EIS. (See DATES and ADDRESSES for meeting schedules)

g. Public Involvement. The USACE invites Federal agencies, American Indian Tribal Nations, state and local governments, and other interested private organizations and parties to attend the public scooping meeting and to provide comments in order to ensure that all significant issues are identified and the full range of issues related to the permit request are addressed.

h. Coordination. The proposed action is being coordinated with a number of Federal, state, regional, and local agencies including but not limited to the following: U.S. DOI, U.S. Fish and Wildlife Service, U.S. National Marine Fisheries Service, U.S. EPA, Florida Department of Environmental Protection, the federally recognized Native American Indian Tribes, Florida State Historic Preservation Officer, Palm Beach County, and other agencies as identified in scoping, public involvement, and agency coordination.

i. Agency Role. The Corps will be the lead agency for the EIS. The U.S. EPA and the U.S. DOI will be asked to be cooperating agencies. The Corps expects to receive input and critical information from the U.S. Fish and Wildlife Service, U.S. EPA, and other federal, state, and local agencies.

k. A1 FEB Draft EIS Preparation. It is estimated that the Draft EIS will be available to the public on or about December 2012. A Notice of Availability will be issued which will open the public comment period. Comments will be accepted during the Draft EIS public comment period which will last at least 30 days.

Dated: August 21, 2012.
Donald W. Kinard,
Chief, Regulatory Division.

[FR Doc. 2012-21186 Filed 8-27-12; 8:45 am]

BILLING CODE 3720-58-P